DEPARTMENT OF JUSTICE

Notice of Lodging of Proposed Consent Decree Under the Comprehensive Environmental Response, Compensation, and Liability Act

On January 15, 2021, the Department of Justice and the State of California on behalf of the California Department of Toxic Substances Control (“DTSC”) lodged a proposed Consent Decree with the United States District Court for the Central District of California pertaining to environmental contamination at the Dense Non-Aqueous Phase Liquid Operable Unit (“DNAPL OU”) of the Montrose Chemical Corp. Superfund Site in Los Angeles County, California. This proposed Consent Decree was lodged in the case United States of America and State of California vs. Montrose Chemical Corp. of California et al., Civil Action No. 2:90-cv-03122 DOC (C.D. Cal.); it resolves certain of the claims in that case.

The proposed Consent Decree, titled in full “Partial Consent Decree (Montrose Superfund Site—Dense Non-Aqueous Phase Liquid (DNAPL) Operable Unit)”, resolves certain claims or potential claims under Sections 106 and 107 of the Comprehensive Environmental Response, Compensation, and Liability Act, 42 U.S.C. 9606, 9607, as well as certain potential state law claims, in connection with environmental contamination at the DNAPL OU. The settling defendants are TFCF America, Inc.; Bayer CropScience Inc.; Montrose Chemical Corporation of California; and Stauffer Management Company LLC. The Consent Decree requires the settling defendants to perform the remedy at the DNAPL OU, which consists primarily of in-situ thermal treatment (electrical resistance heating) and soil vapor extraction with an associated land use covenant, and to make a payment of $340,000.00 toward the United States' unreimbursed DNAPL OU past costs and a payment of $61,798.11 towards DTSC's DNAPL OU past costs. The proposed Consent Decree also requires the settling defendants to pay the United States' and DTSC's future response costs for overseeing the work the settling defendants will be performing at the DNAPL OU.

The publication of this notice opens a period for public comment on the Consent Decree. Comments should be addressed to the Assistant Attorney General, Environment and Natural Resources Division, and should refer to United States of America and State of California vs. Montrose Chemical Corp. of California et al, D.J. Ref. No. 90-11-3-511. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $133.00 (25 cents per page reproduction cost) for the Consent Decree, payable to the United States Treasury. For a paper copy without the appendices and signature pages, the cost is $21.50.

Lori Jonas,
Assistant Section Chief, Environmental Enforcement Section, Environment and Natural Resources Division.

[FR Doc. 2021-01549 Filed 1-22-21; 8:45 am]

BILLING CODE 4410-15-P